DEPARTMENT OF HEALTH AND HUMAN SERVICES

National Institutes of Health

National Institute of Mental Health; Notice of Meeting

Pursuant to section 10(a) of the Federal Advisory Committee Act, as amended (5 U.S.C. App.), notice is hereby given of a meeting of the Services Subcommittee of the Interagency Autism Coordinating Committee (IACC).

The IACC Services Subcommittee will hold a meeting on Tuesday, March 29, 2011. The purpose of the meeting is for the subcommittee to discuss issues related to services and supports for individuals with autism spectrum disorder (ASD) and their families. This meeting will be open to the public and will be accessible by conference call and Webinar.

Name of Committee: Interagency Autism Coordinating Committee (IACC).

Type of meeting: Services Subcommittee.

Date: March 29, 2011.

Time: 2 p.m. to 4:30 p.m. Eastern Time.

Agenda: The subcommittee will discuss issues related to services and supports for individuals with autism spectrum disorder (ASD) and their families.

Place: The Neuroscience Center (NSC), 6001 Executive Boulevard, Room 8120, Rockville, MD 20852.

Webinar: https://www2.gotomeeting.com/register/169578426.

Registration: http://www.acclaroresearch.com/oarc/3-29-11. Pre-registration is recommended to expedite check-in. Seating in the meeting room is limited to room capacity and on a first come, first served basis.

Conference Call Access: Dial: 888-456-0356. Access code: 1427016.

Contact Person: Ms. Lina Perez, Office of Autism Research Coordination, National Institute of Mental Health, NIH, 6001 Executive Boulevard, NSC, 8185a, Rockville, MD 20852, Phone: 301-443-6040, E-mail: IACCPublicInquiries@mail.nih.gov.

Please Note: This meeting will be open to the public and through a conference call and Webinar. Members of the public who participate using the conference call phone number will be able to listen to the discussion but will not be heard. If you experience any technical problems with the conference call, please e-mail IACCTechSupport@acclaroresearch.com or call the IACC Technical Support Help Line at 443-680-0098.

If you experience any technical problems with the Web presentation tool, please contact GoToWebinar at (800) 263-6317. To access the Web presentation tool on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

Individuals who participate in person or by using these electronic services and who need special assistance, such as captioning of the conference call or other reasonable accommodations, should submit a request to the Contact Person listed on this notice at least 7 days prior to the meeting.

As a part of security procedures, attendees should be prepared to present a photo ID at the meeting registration desk during the check-in process. Pre-registration is recommended. Seating will be limited to the room capacity and seats will be on a first come, first served basis, with expedited check-in for those who are pre-registered. Please note: Online pre-registration will close by 5 p.m. the day before the meeting. After that time, registration will have to be done onsite the day of the meeting.

This notice is being published less than 15 days prior to the meeting due to the urgent need to discuss issues related to services and supports for individuals with autism spectrum disorder (ASD) and their families prior to the next IACC full committee meeting, which will take place on April 11, 2011.

Meeting schedule subject to change.

Information about the IACC and a registration link for this meeting are available on the Web site: http://www.iacc.hhs.gov.

Dated: March 10, 2011.
Jennifer S. Spaeth,
Director, Office of Federal Advisory Committee Policy.

[FR Doc. 2011-6303 Filed 3-16-11; 8:45 am]

BILLING CODE 4140-01-P